DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama: Shelby (FEMA Docket No.: B-7716) | City of Pelham (07-04-1305P) | February 14, 2007; February 21, 2007; Shelby County Reporter | The Honorable Bobby Hayes, Mayor, City of Pelham, P.O. Box 1419, Pelham, AL 35124 | May 23, 2007 | 010193
Arkansas: Benton (FEMA Docket No.: B-7716) | City of Lowell (07-06-0172P) | February 8, 2007; February 15, 2007; Arkansas Democrat Gazette | The Honorable Perry Long, Mayor, City of Lowell, P.O. Box 979, Lowell, AR 72745 | May 10, 2007 | 050342
Colorado:
Adams (FEMA Docket No.: B-7712) | City of Thornton (06-08-B537P) | February 1, 2007; February 8, 2007; Golden Transcript | The Honorable Noel Busck, Mayor, City of Thornton, 9500 Civic Center Drive, Thornton, CO 80229 | May 10, 2007 | 080007
Adams (FEMA Docket No.: B-7712) | Unincorporated areas of Adams County (06-08-B537P) | February 1, 2007; February 8, 2007; Golden Transcript | The Honorable Alice J. Nichol, Chairman, Adams County Board of Commissioners, 450 South Fourth Avenue, Brighton, CO 80601 | May 10, 2007 | 080001
Adams and Jefferson (FEMA Docket No.: B-7712) | City of Westminster (06-08-B537P) | February 1, 2007; February 8, 2007; Golden Transcript | The Honorable Nancy McNally, Mayor, City of Westminster, 4800 West 92nd Avenue, Westminster, CO 80031 | May 10, 2007 | 080008
Broomfield (FEMA Docket No.: B-7712) | City of Broomfield and Unincorporated areas of Broomfield County (06-08-B537P) | February 1, 2007; February 8, 2007; Golden Transcript | The Honorable Karen Stuart, Mayor, City and County of Broomfield, One DesCombes Drive, Broomfield, CO 80020 | May 10, 2007 | 085073
Florida: Miami-Dade (FEMA Docket No.: B-7717) | City of Miami (07-04-1922P) | February 22, 2007; March 1, 2007; Miami New Times | The Honorable Manuel A. Diaz, Mayor, City of Miami, 3500 Pan American Drive, Miami, FL 33133 | February 7, 2007 | 120650
Georgia: Gwinnett (FEMA Docket No.: B-7712) | Unincorporated areas of Gwinnett County (06-04-BY93P) | February 1, 2007; February 8, 2007; Gwinnett Daily Post | The Honorable Charles E. Bannister, Chairman, Gwinnett County Board of Commissioners, 75 Langley Drive, Lawrenceville, GA 30045 | May 10, 2007 | 130322
Maine:
Cumberland (FEMA Docket No.: B-7716) | Town of Gorham (07-01-0160P) | January 18, 2007; January 25, 2007; Portland Press Herald | The Honorable Michael J. Phinney, Chairman, Gorham Town Council, Gorham Municipal Center, 75 South Street, Gorham, ME 04038 | April 26, 2007 | 230047
York (FEMA Docket No.: B-7716) | City of Biddeford (06-01-B015P) | January 11, 2007; January 18, 2007; York County Coast Star | The Honorable Wallace H. Nutting, Mayor, City of Biddeford, 205 Main Street, Biddeford, ME 04005 | December 15, 2006 | 230145
Mississippi:
Rankin (FEMA Docket No.: B-7716) | Pearl River Valley Water Supply District (06-04-BN09P) | February 7, 2007; February 14, 2007; Rankin County News | Mr. Benny French, P.E., PLS, General Manager, Pearl River Valley Water Supply District, P.O. Box 2180, Ridgeland, MS 39158 | February 12, 2007 | 280338
Rankin (FEMA Docket No.: B-7716) | Unincorporated areas of Rankin County (06-04-BN09P) | February 7, 2007; February 14, 2007; Rankin County News | Mr. Norman McLeod, County Administrator, Rankin County, 211 East Government Street, Suite A, Brandon, MS 39042 | February 12, 2007 | 280142
Nevada: Clark (FEMA Docket No.: B-7716) | Unincorporated areas of Clark County (06-09-B934P) | December 14, 2006; December 21, 2006; Las Vegas Review-Journal | The Honorable Rory Reid, Chair, Clark County, Board of Commissioners, 500 South Grand Central Parkway, Las Vegas, NV 89106 | March 22, 2007 | 320003
New Mexico: Bernalillo (FEMA Docket No.: B-7712) | City of Albuquerque (07-06-0332P) | February 1, 2007; February 8, 2007; The Albuquerque Journal | The Honorable Martin J. Chavez, Mayor, City of Albuquerque, P.O. Box 1293, Albuquerque, NM 87103 | May 10, 2007 | 350002
North Carolina:
Lee (FEMA Docket No.: B-7716) | City of Sanford (06-04-BM79P) | January 18, 2007; January 25, 2007; The Sanford Herald | The Honorable Cornelia Olive, Mayor, City of Sanford, P.O. Box 3729, Sanford, NC 27331 | December 21, 2006 | 370143
Mecklenburg (FEMA Docket No.: B-7716) | City of Charlotte (06-04-BP55P) | January 18, 2007; January 25, 2007; The Charlotte Observer | The Honorable Patrick McCrory, Mayor, City of Charlotte, 600 East Fourth Street, Charlotte, NC 28202 | September 29, 2006 | 370159
Orange (FEMA Docket No.: B-7716) | Unincorporated areas of Orange County (06-04-BQ22P) | January 17, 2007; January 24, 2007; The Chapel Hill News | The Honorable Barry Jacobs, Chairman, Orange County Board of Commissioners, 2105 Moorefields Road, Hillsborough, NC 27278 | February 3, 2007 | 370342
Oklahoma: Carter North Carolina: Orange (FEMA Docket No.: B-7712) | City or Ardmore (06-06-B689P) | December 21, 2006; December 28, 2006; Daily Ardmoreite | The Honorable Bob Clark, Mayor, City of Ardmore, P.O. Box 249, Ardmore, OK 73401 | November 30, 2006 | 400031
Texas:
Galveston (FEMA Docket No.: B-7712) | City of Hitchcock (06-06-BK83P) | February 1, 2007; February 8, 2007; The Galveston County Daily News | The Honorable Lee A. Sander, Mayor, City of Hitchcock, 7423 Highway 6, Hitchcock, TX 77563 | May 10, 2007 | 485479
Galveston (FEMA Docket No.: B-7712) | City of La Marque (06-06-BK38P) | February 1, 2007; February 8, 2007; The Galveston County Daily News | The Honorable Larry Crow, Mayor, City of La Marque, 1111 Bayou Road, La Marque, TX 77568 | May 10, 2007 | 485486
Hays (FEMA Docket No.: B-7716) | City of San Marcos (06-06-B107P) | January 17, 2007; January 24, 2007; The Free Press | The Honorable Susan Clifford-Narvaiz, Mayor, City of San Marcos, 630 East Hopkins, San Marcos, TX 78666 | January 22, 2007 | 485505
Hays (FEMA Docket No.: B-7716) | Unincorporated areas of Hays County (06-06-B107P) | January 17, 2007; January 24, 2007; The Free Press | The Honorable Jim Powers, Hays County Judge, 111 East San Antonio Street, Suite 300, San Marcos, TX 78666 | January 22, 2007 | 480321
Hood (FEMA Docket No.: B-7716) | City of Granbury (06-06-BG36P) | February 14, 2007; February 21, 2007; Hood County News | The Honorable David Southern, Mayor, City of Granbury, 116 West Bridge Street, Granbury, TX 76048 | January 23, 2007 | 480357
Tarrant (FEMA Docket No.: B-7716) | City of Fort Worth (06-06-BG38P) | October 26, 2006; November 2, 2006; North West Tarrant County Times-Record | The Honorable Michael J. Moncrief, Mayor, City of Fort Worth, 1000 Throckmorton Street, Fort Worth, TX 76102 | February 1, 2007 | 480596
Tarrant (FEMA Docket No.: B-7716) | City of Saginaw (06-06-BG38P) | October 26, 2006; November 2, 2006; North West Tarrant County Times-Record | The Honorable Gary Brinkley, Mayor, City of Saginaw, 333 West McLeroy Boulevard, Saginaw, TX 76179 | February 1, 2007 | 480610
Tarrant (FEMA Docket No.: B-7717) | City of Fort Worth (07-06-0091P) | February 15, 2007; February 22, 2007; Fort Worth Star-Telegram | The Honorable Michael J. Moncrief, Mayor, City of Fort Worth, 1000 Throckmorton Street, Fort Worth, TX 761028 | May 24, 2007 | 480596

(Catalog of Federal Domestic Assistance No. 97.022, “Flood Insurance.”)

Dated: June 18, 2007.
David I. Maurstad,
Federal Insurance Administrator of the National Flood Insurance Program, Department of Homeland Security, Federal Emergency Management Agency.

[FR Doc. E7-12690 Filed 6-29-07; 8:45 am]

BILLING CODE 9110-12-P